DEPARTMENT OF COMMERCE

International Trade Administration

[A-570-996, A-428-843, A-588-872, A-580-872, A-401-809, A-583-851]

Non-Oriented Electrical Steel From People's Republic of China, Germany, Japan, Republic of Korea, Sweden, and Taiwan: Final Results of Expedited First Sunset Reviews of Antidumping Duty Orders

AGENCY: Enforcement and Compliance, International Trade Administration, Department of Commerce.

SUMMARY: As a result of these sunset reviews, the Department of Commerce (Commerce) finds that revocation of the antidumping duty orders on non-oriented electrical steel (NOES) from People's Republic of China (China), Germany, Japan, Republic of Korea (Korea), Sweden, and Taiwan would be likely to lead to continuation or recurrence of dumping, at the levels identified in the “Final Results of Sunset Reviews” section of this notice.

DATES: Applicable February 27, 2020.

FOR FURTHER INFORMATION CONTACT: Abdul Alnoor, Eva Kim, Paola Aleman-Ordaz, AD/CVD Operations, Office IV, Enforcement and Compliance, International Trade Administration, U.S. Department of Commerce, 1401 Constitution Avenue NW, Washington, DC 20230; telephone: (202) 482-4554, (202) 482-8283, or (202) 482-4031, respectively.

SUPPLEMENTARY INFORMATION:

Background

On December 3, 2014, Commerce published in the Federal Register the notices of the antidumping duty orders on NOES from China, Germany, Japan, Korea, Sweden, and Taiwan.¹ On November 1, 2019, Commerce published the initiation of the first sunset reviews of the Orders, pursuant to section 751(c) of the Tariff Act of 1930, as amended (the Act).² On November 15, 2019, Commerce received timely and complete notices of intent to participate in these sunset reviews from AK Steel Corporation (AK Steel) (domestic interested party), within the deadline specified in 19 CFR 351.218(d)(1)(i).³ The domestic interested party claimed interested party status within the meaning of section 771(9)(C) of the Act as a manufacturer in the United States of the domestic like product.⁴

¹ See Non-Oriented Electrical Steel from the People's Republic of China, Germany, Japan, the Republic of Korea, Sweden, and Taiwan: Antidumping Duty Orders, 79 FR 71741 (December 3, 2014) (Orders).

² See Initiation of Five-Year (Sunset) Reviews, 84 FR 58687 (November 1, 2019).

³ See Domestic Interested Party's Letters, “Five-Year (`Sunset') Review of Antidumping Duty Order On Non-Oriented Electrical Steel From The People's Republic Of China: Domestic Interested Party Notice of Intent to Participate,” dated November 15, 2019 (AK Steel's Intent to Participate for China); “Five Year (`Sunset') Review of Antidumping Duty Order On Non-Oriented Electrical Steel From Germany: Domestic Interested Party Notice Of Intent To Participate,” dated November 15, 2019 (AK Steel's Intent to Participate for Germany); “Five-Year (`Sunset') Review of Antidumping Duty Order On Non-Oriented Electrical Steel From Japan: Notice of Intent to Participate,” dated November 15, 2019 (AK Steel's Intent to Participate for Japan); “Five-Year (`Sunset') Review of Antidumping Duty Order On Non-Oriented Electrical Steel From The Republic of Korea: Notice of Intent to Participate,” dated November 1, 2019 (AK Steel's Intent to Participate for Korea); “Five-Year (`Sunset') Review of Antidumping Duty Order On Non-Oriented Electrical Steel From Sweden: Domestic Interested Party Notice of Intent To Participate,” dated November 15, 2019 (AK Steel's Intent to Participate for Sweden); and “Five-Year (`Sunset') Review of Antidumping Duty Order On Non-Oriented Electrical Steel From Taiwan: Domestic Interested Party Notice of Intent to Participate,” dated November 15, 2019 (AK Steel's Intent to Participate for Taiwan).

⁴ See AK Steel's Intent to Participate for China at 2; see also AK Steel's Intent to Participate for Germany; AK Steel's Intent to Participate for Japan; AK Steel's Intent to Participate for Korea; AK Steel's Intent to Participate for Sweden; and AK Steel's Intent to Participate for Taiwan at 2.

On November 27, 2019, the domestic interested party filed timely and adequate substantive responses, within the deadline specified in 19 CFR 351.218(d)(3)(i).⁵ Commerce did not receive substantive responses from any respondent interested party, with respect to any of the orders covered by these sunset reviews. As a result, pursuant to section 751(c)(3)(B) of the Act and 19 CFR 351.218(e)(1)(ii)(C)(2), Commerce conducted expedited (120-day) sunset reviews of the Orders.

⁵ See Domestic Interested Party's Letters, “Five Year (`Sunset') Review of Antidumping Duty Order on Non-Oriented Electrical Steel From the People's Republic of China: Domestic Interested Party Substantive Response,” dated November 27, 2019; “Five Year (`Sunset') Review Of Antidumping Duty Order On Non-Oriented Electrical Steel From Germany: Domestic Interested Party Substantive Response,” dated November 27, 2019; “Five-Year (`Sunset') Review Of Antidumping Duty Order On Non-Oriented Electrical Steel From The Republic of Korea: Domestic Interested Party Substantive Response,” dated November 27, 2019; “Five-Year (`Sunset') Review Of Antidumping Duty Order On Non-Oriented Electrical Steel From Japan: Domestic Interested Party Substantive Response,” dated November 27, 2019; “Five Year (`Sunset') Review Of Antidumping Duty Order On Non-Oriented Electrical Steel From Sweden: Domestic Interested Party Substantive Response,” dated November 27, 2019; and “Five Year (`Sunset') Review of Antidumping Duty Order on Non-Oriented Electrical Steel From Taiwan: Domestic Interested Party Substantive Response,” dated November 27, 2019.

Scope of the Orders

The merchandise covered by these orders is NOES from China, Germany, Japan, Korea, Sweden, and Taiwan. The subject merchandise is provided for in subheadings 7225.19.0000, 7226.19.1000, and 7226.19.9000 of the HTSUS. Subject merchandise may also be entered under subheadings 7225.50.8085, 7225.99.0090, 7226.92.5000, 7226.92.7050, 7226.92.8050, 7226.99.0180 of the HTSUS. Although HTSUS subheadings are provided for convenience and customs purposes, the written description of the scope is dispositive. A full description of the scope of the Orders is contained in the accompanying Issues and Decision Memorandum.⁶

⁶ See Memorandum, “Issues and Decision Memorandum for the Expedited First Sunset Reviews of the Antidumping Duty Orders on Non-Oriented Electrical Steel from People's Republic of China, Germany, Japan, Republic of Korea, Sweden, and Taiwan” (Issues and Decision Memorandum), dated concurrently with this notice.

Analysis of Comments Received

A complete discussion of all issues raised in these sunset reviews, including the likelihood of continuation or recurrence of dumping in the event of revocation of the Orders and the magnitude of the margins likely to prevail if the Orders were to be revoked, is provided in the accompanying Issues and Decision Memorandum, which is hereby adopted by this notice. A list of the topics discussed in the Issues and Decision Memorandum is attached as an Appendix to this notice. The Issues and Decision Memorandum is a public document and is on file electronically via Enforcement and Compliance's Antidumping and Countervailing Duty Centralized Electronic Service System (ACCESS). ACCESS is available to registered users at http://access.trade.gov and to all parties in the Central Records Unit, Room B8024 of the main Commerce building. In addition, a complete version of the Issues and Decision Memorandum can be accessed directly on the internet at http://enforcement.trade.gov/frn/. The signed Issues and Decision Memorandum and the electronic version of the Issues and Decision Memorandum are identical in content.

Final Results of Sunset Reviews

Pursuant to sections 751(c)(1) and 752(c)(1) and (3) of the Act, Commerce determines that revocation of the Orders on NOES from China, Germany, Japan, Korea, Sweden, and Taiwan would be likely to lead to continuation or recurrence of dumping, and that the magnitude of the dumping margins likely to prevail would be weighted-average margins of up to 407.52 percent for China, 98.84 percent for Germany, 204.79 percent for Japan, 6.88 percent for Korea, 126.72 percent for Sweden, and 52.23 percent for Taiwan.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: February 20, 2020.
Jeffrey I. Kessler,
Assistant Secretary for Enforcement and Compliance.

Appendix

List of Topics Discussed in the Issues and Decision Memorandum

I. Summary

II. Background

III. Scope of the Orders

IV. History of the Orders

V. Legal Framework

VI. Discussion of the Issues

A. Likelihood of Continuation or Recurrence of Dumping

B. Magnitude of the Dumping Margins Likely to Prevail

VII. Final Results of Sunset Reviews

VIII. Recommendation

[FR Doc. 2020-03999 Filed 2-26-20; 8:45 am]

BILLING CODE 3510-DS-P